FEDERAL COMMUNICATIONS COMMISSION

47 CFR Part 73

[DA 00-256; MM Docket No. 99-209; RM-9628]

Radio Broadcasting Services; Buras, LA

AGENCY: Federal Communications Commission.

ACTION: Proposed rule; denial.

SUMMARY: This document denies a petition for rule making filed by Mountain West Broadcasting proposing the allotment of FM Channel 279C2 to Buras, Louisiana, as that locality's first commercial FM transmission service. Petitioner failed to establish the availability of a suitable location for tower construction as the required site restriction located 6 kilometers south of the community at coordinates 29-18-15 NL and 89-32-00 WL to accommodate Channel 279C2 at Buras is in marshland. See 64 FR 31172, June 10, 1999. With this action, this proceeding is terminated.

ADDRESSES: Federal Communications Commission, Washington, DC 20554.

FOR FURTHER INFORMATION CONTACT: Nancy Joyner, Mass Media Bureau, (202) 418-2180.

SUPPLEMENTARY INFORMATION: This is a synopsis of the Commission's Report and Order, MM Docket No. 99-209, adopted February 2, 2000, and released February 11, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

List of Subjects in 47 Part 73

Radio broadcasting.

Federal Communications Commission.
John A. Karousos,
Chief, Allocations Branch, Policy and Rules Division, Mass Media Bureau.

[FR Doc. 00-4172 Filed 2-22-00; 8:45 am]

BILLING CODE 6712-01-P